DEPARTMENT OF COMMERCE

Foreign-Trade Zones Board

[B-49-2014]

Foreign-Trade Zone 203—Moses Lake, Washington; Application for Reorganization (Expansion of Service Area) Under Alternative Site Framework

A notice which appeared recently in the Federal Register (79 FR 39365-3966,07/10/2014) regarding an application submitted to the Foreign-Trade Zones (FTZ) Board by the Port of Moses Lake Public Corporation, requesting authority to expand its service area under the alternative site framework (ASF) had an incorrect docket number of B-49-2013. The correct docket number is B-49-2014.

For further information, contact Christopher Kemp at Christopher.Kemp@trade.gov or (202) 482-0862.

Dated: July 10, 2014.
Andrew McGilvray,
Executive Secretary.

[FR Doc. 2014-16588 Filed 7-14-14; 8:45 am]

BILLING CODE 3510-DS-P